DEPARTMENT OF HOMELAND SECURITY

Coast Guard

[Docket No. USCG-2011-0351]

Consolidated Port Approaches and International Entry and Departure Transit Areas Port Access Route Studies (PARS) Integral to Efficiency of Possible Atlantic Coast Fairways

AGENCY: Coast Guard, DHS.

ACTION: Notice of availability.

SUMMARY: The Coast Guard announces the availability of the Consolidated Port Approaches and International Entry and Departure Transit Areas Port Access Route Studies (CPAPARS). This report summarizes the findings of four regional port access route studies: the Northern New York Bight; Seacoast of New Jersey Including Offshore Approaches to the Delaware Bay, Delaware; Approaches to the Chesapeake Bay, Virginia; and the Seacoast of North Carolina Including Approaches to the Cape Fear River and Beaufort Inlet, North Carolina. This notice announces the conclusion of the studies supplemental to the Atlantic Coast Port Access Route Study (ACPARS), announced on in the Federal Register on March 15, 2019.

FOR FURTHER INFORMATION CONTACT: For information about this document call or email John Stone, Coast Guard; telephone 202-372-1093, email john.m.stone@uscg.mil.

SUPPLEMENTARY INFORMATION:

Background

Atlantic Coast Port Access Route Study

On April 5, 2017, the Coast Guard announced the completion of the Atlantic Coast Port Access Route Study in the Federal Register (82 FR 16510), which is available for viewing and download from the Coast Guard Navigation Center's website at https://www.navcen.uscg.gov/port-access-route-studies.

The ACPARS identified navigation safety corridors along the Atlantic Coast based on the predominant two-way vessel traffic and customary routes identified with AIS data for offshore deep draft and coastal seagoing tug/tow vessels. The study recommended developing these corridors into official shipping safety fairways or other appropriate vessel routing measures.

Based on the recommendations provided in the ACPARS, the Coast Guard published an Advance Notice of Proposed Rulemaking (ANPRM) in the Federal Register (85 FR 37034) on June 19, 2020. This ANPRM, which is available for viewing and download from the Federal Register docket USCG-2019-0279 at www.regulations.gov, sought comments regarding the possible establishment of fairways along the Atlantic Coast of the United States identified in the ACPARS.

Consolidated Port Approaches and International Entry and Departure Transit Areas Port Access Route Studies

Recognizing the ACPARS only analyzed coastal, longshore, and predominantly north/south vessel transit routes along the Atlantic Coast, the Coast Guard announced new studies focused on port approaches and international entry and departure areas along the Atlantic Coast supplemental to the ACPARS, on March 15, 2019. This report summarizes the findings of four regional port access route studies: the Northern New York Bight; Seacoast of New Jersey Including Offshore Approaches to the Delaware Bay, Delaware; Approaches to the Chesapeake Bay, Virginia; and the Seacoast of North Carolina. The CPAPARS has been completed and has been uploaded to the docket and at https://www.navcen.uscg.gov/port-access-route-study-reports for public review.

This notice is issued under authority of 46 U.S.C. 70003(c).

Dated: September 2, 2022.
M.D. Emerson,
Director, Marine Transportation Systems.

[FR Doc. 2022-19546 Filed 9-8-22; 8:45 am]

BILLING CODE 9110-04-P